DEPARTMENT OF COMMERCE

National Oceanic and Atmospheric Administration

50 CFR Part 648

[Docket No. 031119283-4001-02; I.D. 122204F]

Fisheries of the Northeastern United States; Summer Flounder Fishery; Commercial Quota Harvested for North Carolina

AGENCY: National Marine Fisheries Service (NMFS), National Oceanic and Atmospheric Administration (NOAA), Commerce.

ACTION: Closure of commercial fishery.

SUMMARY: NMFS announces that the summer flounder commercial quota available to North Carolina has been harvested. Vessels issued a commercial Federal fisheries permit for the summer flounder fishery may not land summer flounder in North Carolina for the remainder of calendar year 2004, unless additional quota becomes available through a transfer. Regulations governing the summer flounder fishery require publication of this notification to advise North Carolina that the quota has been harvested and to advise vessel permit holders and dealer permit holders that no commercial quota is available for landing summer flounder in North Carolina.

DATES: Effective 1800 hours, December 26, 2004, through 2400 hours, December 31, 2004.

FOR FURTHER INFORMATION CONTACT: Jason Blackburn, Fishery Management Specialist, (978) 281-9326, e-mail jason.blackburn@noaa.gov.

SUPPLEMENTARY INFORMATION: Regulations governing the summer flounder fishery are found at 50 CFR part 648. The regulations require annual specification of a commercial quota that is apportioned on a percentage basis among the coastal states from North Carolina through Maine. The process to set the annual commercial quota and the percent allocated to each state is described in § 648.100.

The initial total commercial quota for summer flounder for the 2004 calendar year was set equal to 16,920,000 lb (7,674,862 kg) (69 FR 2074, January 14, 2004). The percent allocated to vessels landing summer flounder in North Carolina is 27.44584 percent, resulting in a commercial quota of 4,643,836 lb (2,106,430 kg). The adjusted 2004 allocation was reduced to 4,163,464 lb (1,888,535 kg) due to research set-aside and quota overages from 2003. However, on March 9, 2004 (69 FR 10937), NMFS published notification of a commercial quota restoration of 451,595 lb (204,842 kg) to North Carolina increasing the commercial quota to 4,615,059 lb (2,093,377 kg).

Section 648.101(b) requires the Administrator, Northeast Region, NMFS (Regional Administrator) to monitor state commercial quotas and to determine when a state's commercial quota has been harvested. NMFS then publishes a notification in the Federal Register to advise the state and to notify Federal vessel and dealer permit holders that, effective upon a specific date, the state's commercial quota has been harvested and no commercial quota is available for landing summer flounder in that state. The Regional Administrator has determined, based upon dealer reports and other available information, that North Carolina has harvested its quota for 2004.

The regulations at § 648.4(b) provide that Federal permit holders agree, as a condition of the permit, not to land summer flounder in any state that the Regional Administrator has determined no longer has commercial quota available. Therefore, effective 1800 hours, December 26, 2004, through 2400 hours, December 31, 2004, further landings of summer flounder in North Carolina by vessels holding summer flounder commercial Federal fisheries permits are prohibited for the remainder of the 2004 calendar year, unless additional quota becomes available through a transfer and is announced in the Federal Register. Effective 1800 hours, December 26, 2004, through 2400 hours, December 31, 2004, federally permitted dealers are also notified that they may not purchase summer flounder from federally permitted vessels that land in North Carolina for the remainder of the calendar year, or until additional quota becomes available through a transfer.

Classification

This action is required by 50 CFR part 648 and is exempt from review under E.O. 12866.

Authority: 16 U.S.C. 1801 et seq.

Dated: December 22, 2004.
Alan D. Risenhoover,
Acting Director, Office of Sustainable Fisheries, National Marine Fisheries Service.

[FR Doc. 04-28365 Filed 12-22-04; 1:48 pm]

BILLING CODE 3510-22-S